DEPARTMENT OF COMMERCE

National Oceanic and Atmospheric Administration

RIN 0648-XT00

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council), its Surfclam / Ocean Quahog / Tilefish Committee; its Dogfish Committee; its Squid, Mackerel, Butterfish Committee; its Demersal and Coastal Migratory Committee; its Monkfish Committee; and, its Executive Committee will hold public meetings.

DATES: The meetings will be held Tuesday, December 8, 2009 through Thursday, December 10, 2009. See SUPPLEMENTARY INFORMATION for specific dates and times.

ADDRESSES: The meetings will be held at the Sheraton Suites Hotel, 422 Delaware Avenue, Wilmington, DE 19801; telephone: (302) 654-8300.

Council address: Mid-Atlantic Fishery Management Council, 300 S. New St., Room 2115, Dover, DE 19904; telephone: (302) 674-2331.

FOR FURTHER INFORMATION CONTACT: Daniel T. Furlong, Executive Director, Mid-Atlantic Fishery Management Council; telephone: (302) 674-2331 ext. 19.

SUPPLEMENTARY INFORMATION:

Tuesday, December 8, 2009

From 8:30 a.m. until 5 p.m., the Council will convene jointly with the Atlantic States Marine Fisheries Commission's (ASMFC) Summer Flounder, Scup, Black Sea Bass and Dogfish Boards to discuss and develop recreational management measures for Summer Flounder, Scup, and Black Sea Bass, and commercial management measures for Dogfish.

Wednesday, December 9, 2009

From 8 a.m. until noon, the Council will meet to discuss and develop Accountability Measures (AM) for Surfclam, Ocean Quahog, Tilefish, Dogfish, Mackerel, and Butterfish.

From 1 p.m. until 1:15 p.m., the Council will present its 2009 annual award recognitions.

From 1:15 p.m. until 4 p.m., the Council will meet to discuss and develop AMs for Summer Flounder, Scup, Black Sea Bass, and Monkfish.

From 4 p.m. until 5:30 p.m., officials from National Marine Fisheries Service's (NMFS) Northeast Fisheries Science Center (NEFSC) will provide the Council with a presentation on Catch Shares.

Thursday, October 10, 2009

From 8 a.m. until 9 a.m., the Executive Committee will meet.

From 9 a.m. until 10 a.m., the Council will receive a presentation from a senior NOAA Advisor on NOAA's Catch Share Policy.

From 10 a.m. until 11:30 a.m,. the Council will hold its regular Business Session.

From 11:30 until 12 p.m., an informal question and answer session will be convened regarding MPA nominations and designations.

From 1 p.m. until 2:15 p.m., public comments will be taken and considered regarding the selection of sites for MPA designation.

From 2:15 p.m. until 3:30 p.m., the Council will receive Committee reports and conduct any continuing and/or new business.

Agenda items by day for the Council's Committees and the Council itself are:

On Tuesday, December 8 - The Council will convene jointly with the Atlantic States Marine Fisheries Commission's (ASMFC) Summer Flounder, Scup, and Black Sea Bass Board. They will review and discuss the Monitoring Committee's and Advisory Panel's recommendations on summer flounder, scup, and black sea bass recreational management measures, and develop and approve recreational management measures for the 2010 summer flounder, scup, and black sea bass recreational fisheries. Jointly with the ASMFC's Dogfish Board, the Council will review and discuss the Spiny Dogfish Monitoring Committee's and the SSC's advice and recommendations for the spiny dogfish quota and related management measures for the 2010/11 fishing year, and adopt quota and related management measures for the 2010/11 fishing year.

On Wednesday, December 9 - The Council will convene to discuss Accountability Measures (AM) to be included in the Council's ACL/AM Omnibus Amendment with its Surfclam / Ocean Quahog / Tilefish Committee, its Dogfish Committee, and its Squid, Mackerel, and Butterfish Committee. The Council will then award its 2009 Fisheries Achievement Award (FAA) and its Ricks E Savage Award. The Council will meet with its Demersal and Coastal Migratory Committee and the Monkfish Committee to discuss and recommend draft Accountability Measures (AM) to be included in the Council's ACL/AM Omnibus Amendment. The Council will then receive a presentation from a NMFS NEFSC Official on performance monitoring and evaluation of catch shares in terms of their social, cultural and economic impacts on regional fisheries.

On Thursday, December 10 - The Executive Committee will meet to review the draft standards for reconsideration by the SSC of ABC advice previously provided by that Committee. The Council will then convene to receive a presentation by Dr. Lubchenco's Senior Advisor and Catch Share Task Force Chairperson on NOAA's draft-interim policy on Catch Shares. The Council will open its regular business session to approve the October Council meeting minutes and receive various organizational reports. A question / answer session will then be held regarding MPA nominations, followed by a public comment concerning the Council's selection of sites for MPA designation. The Council will hear Committee reports and discuss any continuing and / or new business.

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Bryan, (302) 674-2331 ext 18, at least 5 days prior to the meeting date.

Dated: November 19, 2009.
William D. Chappell,
Acting Director, Office of Sustainable Fisheries, National Marine Fisheries Service.

[FR Doc. E9-28134 Filed 11-23-09; 8:45 am]

BILLING CODE 3510-22-S